Title 3—

The President

Proclamation 9922 of September 6, 2019

National Historically Black Colleges and Universities Week, 2019

By the President of the United States of America

A Proclamation

For more than 180 years, America's Historically Black Colleges and Universities (HBCUs) have made extraordinary contributions to the general welfare and prosperity of our country by advancing the educational pursuits of African Americans and many others. These fine institutions help shape citizens of character and purpose, position them to thrive beyond graduation, and expand our Nation's pipeline of productivity by creating meaningful employment opportunities that empower talented employees to succeed in the workforce and in public service. During National Historically Black Colleges and Universities Week, we celebrate these pillars of higher learning, their unique history, and the pathways to success they provide for African American students and our country.

While HBCUs comprise just 3 percent of all nonprofit colleges and universities, they enroll nearly 10 percent of all African American college students. Moreover, these institutions account for 17 percent of African Americans who earn their bachelor's degrees and 27 percent of those who earn degrees in science, technology, engineering, and math fields. My Administration has made HBCU success a national priority. I have signed legislation providing more than $404 million in funding for HBCU Higher Education Act programs and assisted 13 schools experiencing financial difficulty to restructure to be better positioned to meet student and community needs. HBCUs directly contribute $15 billion to our Nation's economy and directly support more than 134,000 jobs. We are working every day to enhance this sizable economic footprint.

In accordance with my Executive Order establishing the President's Board of Advisors on HBCUs, 32 Federal agencies have outlined plans describing efforts to make HBCUs stronger and more competitive when seeking grants and other Federal support. Additionally, I have commissioned the Executive Office of the President to develop a unique Federal HBCU strategy that encourages HBCUs to partner with leaders in advancing local economic development goals. We will continue to strengthen the role of these institutions to help them improve the lives of their students, alumni, and the communities they serve.

This year, as our Nation solemnly recognizes the 400th anniversary of the arrival of the first Africans in the American colonies in 1619, we take the time to herald the unyielding spirit of African Americans who have triumphed over enslavement, discrimination, oppression, and injustice. We commend HBCUs for all that they have done and continue to do to inspire and foster success in their students, preserve our history, and ensure that we remember, learn from, and build upon the past to create a brighter and more prosperous future for all Americans.

NOW, THEREFORE, I, DONALD J. TRUMP, President of the United States of America, by virtue of the authority vested in me by the Constitution and the laws of the United States, do hereby proclaim September 8 through September 14, 2019, as National Historically Black Colleges and Universities Week, and further proclaim September 9, 2019, as the Inaugural National HBCU Colors Day. I call upon all Americans to observe this week with appropriate programs, ceremonies, and activities and to boldly, joyfully, and proudly don institutional colors.

IN WITNESS WHEREOF, I have hereunto set my hand this sixth day of September, in the year of our Lord two thousand nineteen, and of the Independence of the United States of America the two hundred and forty-fourth.

[FR Doc. 2019-19928

Filed 9-11-19; 11:15 am]

Billing code 3295-F9-P